DEPARTMENT OF LABOR

Employment and Training Administration

[TA-W-62,864]

Ametek, Inc., Measurement and Calibration Technology Division, Sellersville, PA; Notice of Affirmative Determination Regarding Application for Reconsideration

By application dated May 30, 2008, petitioners requested administrative reconsideration of the Department of Labor's Notice of Negative Determination Regarding Eligibility to Apply for Worker Adjustment Assistance, applicable to workers and former workers of the subject firm. The denial notice was signed on April 18, 2008 and published in the Federal Register on May 2, 2008 (73 FR 24318).

The initial investigation resulted in a negative determination based on the finding that criteria I.A and II.A have not been met. The investigation revealed that the subject firm did not separate or threaten to separate a significant number or proportion of workers as required by Section 222 of the Trade Act of 1974.

In the request for reconsideration, the petitioner provided additional information regarding employment and layoffs at the subject firm.

The Department has carefully reviewed the request for reconsideration and the existing record and has determined that the Department will conduct further investigation.

Conclusion

After careful review of the application, I conclude that the claim is of sufficient weight to justify reconsideration of the Department of Labor's prior decision. The application is, therefore, granted.

Signed in Washington, DC, this 16th day of June, 2008.
Elliott S. Kushner,
Certifying Officer, Division of Trade Adjustment Assistance.

[FR Doc. E8-14301 Filed 6-24-08; 8:45 am]

BILLING CODE 4510-FN-P